DEPARTMENT OF ENERGY

Federal Energy Regulatory Commission

[Docket No. IC21-40-000]

Commission Information Collection Activities (FERC-549B, FERC-549D, FERC-556, and FERC-561); Comment Request; Extension

AGENCY: Federal Energy Regulatory Commission, Department of Energy.

ACTION: Notice of information collection and request for comments.

SUMMARY: In compliance with the requirements of the Paperwork Reduction Act of 1995, the Federal Energy Regulatory Commission (Commission or FERC) is soliciting public comment on the currently approved information collections: FERC-549B (Gas Pipeline Rates: Annual Capacity Reports and Index of Customers); FERC-549D (Quarterly Transportation and Storage Report For Intrastate Natural Gas and Hinshaw Pipelines); FERC-556 (Certification of Qualifying Facility (QF) Status for a Small Power Production or Cogeneration Facility); FERC-561 (Annual Report of Interlocking Directorates). The above four collections are a part of this combined notice only and are not being combined into one OMB Control Number, which will be submitted to the Office of Management and Budget (OMB) for review. The Commission issued a 60-day notice on November 30, 2021 requesting public comments; no comments were received.

DATES: Comments on the collection of information are due March 14, 2022.

ADDRESSES: Send written comments on FERC-549B (OMB #1902-0169), FERC-549D (OMB #1902-0253), FERC-556 (OMB #1902-0075), and FERC-561 (OMB #1902-0099) to OMB through www.reginfo.gov/public/do/PRAMain. Attention: Federal Energy Regulatory Commission Desk Officer. Please identify the OMB Control Number the specified OMB Control Number corresponding to the collection in the subject line of your comments. Comments should be sent within 30 days of publication of this notice to www.reginfo.gov/public/do/PRAMain.

Please submit copies of your comments to the Commission. You may submit copies of your comments (identified by Docket No. IC21-40-000) by one of the following methods:

Electronic filing through http://www.ferc.gov, is preferred.

• Electronic Filing: Documents must be filed in acceptable native applications and print-to-PDF, but not in scanned or picture format.

• For those unable to file electronically, comments may be filed by USPS mail or by hand (including courier) delivery.

○ Mail via U.S. Postal Service Only: Addressed to: Federal Energy Regulatory Commission, Secretary of the Commission, 888 First Street NE, Washington, DC 20426.

○ Hand (including courier) Delivery: Deliver to: Federal Energy Regulatory Commission, 12225 Wilkins Avenue, Rockville, MD 20852.

Instructions: OMB submissions must be formatted and filed in accordance with submission guidelines at www.reginfo.gov/public/do/PRAMain. Using the search function under the “Currently Under Review” field, select Federal Energy Regulatory Commission; click “submit,” and select “comment” to the right of the subject collection.

FERC submissions must be formatted and filed in accordance with submission guidelines at: http://www.ferc.gov. For user assistance, contact FERC Online Support by email at ferconlinesupport@ferc.gov, or by phone at: (866) 208-3676 (toll-free).

Docket: Users interested in receiving automatic notification of activity in this docket or in viewing/downloading comments and issuances in this docket may do so at https://www.ferc.gov/ferc-online/overview.

FOR FURTHER INFORMATION CONTACT: Ellen Brown may be reached by email at DataClearance@FERC.gov, telephone at (202) 502-8663.

SUPPLEMENTARY INFORMATION:

1. FERC-549B

Title: FERC-549B, Gas Pipeline Rates: Capacity Reports and Index of Customers.

OMB Control No.: 1902-0169.

Type of Request: Three-year extension of the FERC-549B information collection requirements with no changes to the current reporting requirements. The Commission issued a 60-day notice on November 30, 2021 (86 FR 67943) requesting public comments; no comments were received.

Abstract: As described below, FERC-549B is comprised of information collection activities at 18 CFR 284.13(b), 284.13(c), 284.13(d)(1), and 284.13(d)(2). The purpose of these information collection activities is to provide reliable information about capacity availability and price that shippers need to make informed decisions in a competitive market. In addition, the information enables shippers and the Commission to monitor marketplace behavior to detect, and remedy, anti-competitive behavior.

The regulations at 18 CFR 284.13(b) and 284.13(d)(1) require each interstate pipeline to post information about firm and interruptible service on its internet website, and in downloadable file formats. The information required at 18 CFR 284.13(b) includes identification of the shippers receiving service and details about contracts for firm service, capacity release transactions,¹ and agreements for interruptible service. The pipeline must maintain access to that information for a period not less than 90 days from the date of posting. The regulation at 18 CFR 284.13(d)(1) requires equal and timely access to information relevant to the availability of all transportation services whenever capacity is scheduled. In addition, each interstate pipeline must provide information about the volumes of no-notice transportation ² provided. The regulation and this information collection activity enable shippers to release transportation and storage capacity to other shippers wanting to obtain capacity. The information results in reliable capacity information availability and price data that shippers need to make informed decisions in a competitive market and enables shippers and the Commission to monitor the market for potential abuses.

¹ As provided at 18 CFR 284.8, an interstate pipeline that offers transportation service on a firm basis must include in its tariff a mechanism for firm shippers to release firm capacity to the pipeline for resale.

² No-notice transportation allows for the reservation of pipeline capacity on demand without incurring any penalties.

The regulation at 18 CFR 284.13(c) requires each interstate pipeline to file with the Commission an index of all its firm transportation and storage customers under contract on the first business day of each calendar quarter. The index of customers also must be posted on the pipeline's own internet website, in downloadable file formats, and must be made available until the next quarterly index is posted. The requirements for the electronic index can be obtained from the Federal Energy Regulatory Commission, Division of Information Services, Public Reference and Files Maintenance Branch, Washington, DC 20426.

The regulation at 18 CFR 284.13(d)(2) requires interstate pipelines to make an annual filing by March 1 of each year showing the estimated peak day capacity of the pipeline's system, and the estimated storage capacity and maximum daily delivery capability of storage facilities under reasonably representative operating assumptions and the respective assignments of that capacity to the various firm services provided by the pipeline.

Types of Respondents: Respondents for this data collection are interstate pipelines and storage facilities subject to FERC regulation under the Natural Gas Act.

Estimate of Annual Burden: The Commission estimates the annual public reporting burden ³ and cost ⁴ for FERC-549B as shown in the following table:

³ For FERC-549B, FERC-549D, FERC-556, and FERC-561, “burden” is defined as the total time, effort, or financial resources expended by persons to generate, maintain, retain, or disclose or provide information to or for a Federal agency. For further explanation of what is included in the information collection burden, refer to 5 CFR 1320.3.

⁴ For FERC-549B, the Commission staff believes that industry is similarly situated to the Commission in terms of wages and benefits. Therefore, cost estimates are based on FERC's 2021 average annual wage (and benefits) for a full-time employee of $180,703 (or $87.00/hour).

FERC-549B—Gas Pipeline Rates: Capacity Reports and Index of Customers
| Number of respondents | Annual number of responses per respondent | Total number of responses | Average burden and cost ($) per response | Total annual burden and total annual cost ($) | Cost per respondent ($)
| (1) | (2) | (1) * (2) = (3) | (4) | (3) * (4) = (5) | (5) ÷ (1)
Capacity Reports under 284.13(b) & 284.13(d)(1) | 168 | 6 | 1,008 | 145 hrs.; $12,615 | 146,160 hrs.; $12,715,920 | $75,690
Peak Day Annual Capacity Report under 284.13(d)(2) | 168 | 1 | 168 | 10 hrs.; $870 | 1,680 hrs.; $146,160 | 870
Index of Customers under 284.13(c)⁵ | 168 | 4 | 672 | 3 hrs.; $261 | 2,016 hrs.; $175,392 | 1,044
Total |  |  | 1,848 |  | 149,856 hrs.; $13,037,47240 | 77,604

2. FERC-549D

⁵ The burden per response is based on burden expended on similar forms and other similar FERC reporting requirements (e.g. capacity reports).

Title: FERC-549D, Quarterly Transportation and Storage Report for Intrastate Natural Gas and Hinshaw Pipelines.

OMB Control No.: 1902-0253.

Type of Request: Three-year extension of the FERC-549D information collection requirements with no changes to the current reporting requirements. The Commission issued a 60-day notice on November 30, 2021 (86 FR 67943) requesting public comments; no comments were received.

Abstract: The reporting requirements under FERC-549D are required to carry out the Commission's policies in accordance with the general authority in Section 1(c) of the Natural Gas Act (NGA) ⁶ and Section 311 of the Natural Gas Policy Act of 1978 (NGPA).⁷ This collection promotes transparency by making available intrastate and Hinshaw pipeline transactional information. The Commission collects the data on a standardized form with all requirements outlined in 18 CFR 284.126.

⁶ 15 U.S.C. 717(c).

⁷ 15 U.S.C. 3371.

The FERC-549D collects the following information:

• Full legal name and identification number of the shipper receiving service, including whether the pipeline and the shipper are affiliated;

• Type of service performed;

• The rate charged under each contract;

• The primary receipt and delivery points for each contract;

• The quantity of natural gas the shipper is entitled to transport, store, or deliver for each transaction;

• The duration of the contract, specifying the beginning and (for firm contracts only) ending month and year of current agreement;

• Total volumes transported, stored, injected or withdrawn for the shipper; and

• Annual revenues received for each shipper, excluding revenues from storage services.

Filers submit the Form-549D on a quarterly basis.

Type of Respondents: Intrastate natural gas pipelines under NGPA Section 311 authority and Hinshaw pipelines.

Estimate of Annual Burden: The Commission estimates the annual public reporting burden and cost ⁸ for the information collection as follows:

⁸ For FERC-549D, the hourly wage figure is $92.92/hour (rounded). This cost represents the average hourly cost (for wages plus benefits) of four career fields: 23-0000 Legal ($142.25/hour), 13-2011 Accountants ($57.41/hour), 13-1111 Management Analyst ($68.39/hour), and 11-3021 Computer and Information Sys. ($103.61/hour). These June 2021 figures were compiled using Bureau of Labor Statistics data that were specific to each occupational category: http://bls.gov/oes/current/naics2_22.htm.

FERC-549D—Quarterly Transportation and Storage Report for Intrastate Natural Gas and Hinshaw Pipelines
| Average annual number of respondents | Average annual number of responses per respondent | Average annual total number of responses | Average burden hours and cost ($) per response | Total annual burden hours and total annual cost ($) (rounded) | Cost per respondent ($)
| (1) | (2) | (1) * (2) = (3) | (4) | (3) * (4) = (5) | (5) ÷ (1)
PDF filings | 120 | 4 | 480 | 12.5 hrs.; $1,161.50 | 6,000 hrs.; $557,520 | $4,646
Total |  |  | 480 |  | 6,000 hrs.; $557,520 |

3. FERC-556

Title: FERC-556, Certification of Qualifying Facility (QF) Status for a Small Power Production or Cogeneration Facility.

OMB Control No.: 1902-0075.

Type of Request: Three-year extension of the FERC-556 information collection requirements with no changes to the current reporting requirements. The Commission issued a 60-day notice on November 30, 2021 (86 FR 67943) requesting public comments; no comments were received.

Abstract: Form No. 556 is required to implement sections 201 and 210 of the Public Utility Regulatory Policies Act of 1978 ⁹ (PURPA). FERC is authorized, under those sections, to encourage cogeneration and small power production and to prescribe such rules as necessary to carry out the statutory directives.

⁹ 16 U.S.C. 796 and 824i.

A primary statutory objective is efficient use of energy resources and facilities by electric utilities. One means of achieving this goal is to encourage production of electric power by cogeneration facilities which makes use of reject heat associated with commercial or industrial processes, and by small power production facilities which use other wastes and renewable resources. PURPA encourages the development of small power production facilities and cogeneration facilities that meet certain technical and corporate criteria through establishment of various regulatory benefits. Facilities that meet these criteria are called Qualifying Facilities (QFs).

FERC's regulations in 18 CFR part 292, as relevant here, specify: (a) The certification procedures which must be followed by owners or operators of small power production and cogeneration facilities; (b) the criteria which must be met; (c) the information which must be submitted to FERC in order to obtain qualifying status; and (d) the PURPA benefits which are available to QFs to encourage small power production and cogeneration.

18 CFR part 292 also exempts QFs from certain corporate, accounting, reporting, and rate regulation requirements of the Federal Power Act,¹⁰ certain state laws, and the Public Utility Holding Company Act of 2005.¹¹

¹⁰ 16 U.S.C. 791a, et seq.

¹¹ 42 U.S.C. 16451 through 165463.

Type of Respondents: Facilities that are self-certifying their status as a co-generator or a Small Power Producer that is submits an application for FERC certification of their status as a co-generator.

Estimate of Annual Burden: The Commission estimates the burden and cost for this information collection as follows:

FERC-556—Certification of Qualifying Facility Status for a Small Power Production or Cogeneration Facility
Facility type | Filing type | Number of respondents | Number of responses per respondent | Total number of responses | Average burden hours and cost per response ¹² | Total annual burden hours and total annual cost (rounded) | Cost per respondent ($) (rounded)
|  | (1) | (2) | (1) * (2) = (3) | (4) | (3) * (4) = (5) | (5) ÷ (1)
Cogeneration Facility >1 MW ¹³ | Self-certification | 68 | 2.14 | 145.52 | 3.54 hrs; $307.98 | 515.14 hrs; $44,817.18 | $659.07
Cogeneration Facility >1 MW | Application for FERC certification | 28.89 | 2.14 | 61.81 | 50 hrs; $4,350 | 3,090.52 hrs; $268,875.24 | 930.26
Small Power Production Facility >1 MW | Self-certification | 2,698 | 2.14 | 5,773.72 | 3.54 hrs; $307.98 | 20,438.97 hrs; $1,778,190.39 | 659.07
Small Power Production Facility >1 MW | Application for FERC certification | 0 | 2.14 | 0 | 50 hrs; $4,350 | 0 hrs; $0 | 0
Cogeneration and Small Power Production Facility ≤1 MW (Self-Certification) ¹⁴ | Self-certification | 697 | 2.14 | 1,491.58 | 3.54 hrs; $307.98 | 2,237.37 hrs; $194,651.19 | 279.27
Total |  | 3,469 |  | 7,423.66 |  | 26,282 hrs; $2,286,534 |

4. FERC-561

¹² The Commission staff believes that industry is similarly situated in terms of wages and benefits. Therefore, cost estimates are based on FERC's 2021 average annual wage (and benefits) for a full-time employee of $180,703 (or $87.00/hour).

¹³ MW = megawatt.

¹⁴ The regulation at 18 CFR 292.203(d) exempts small power production facilities and cogeneration facilities from self-certification if they have a net power production capacity of 1 MW or less. However, we are disclosing burdens for these filings because some facilities seek status as qualifying facilities regardless of their capacity.

Title: FERC-561, Interlocking Directorates.

OMB Control No.: 1902-0099.

Type of Request: Three-year extension of the FERC-561 information collection requirements with no changes to the current reporting requirements. The Commission issued a 60-day notice on November 30, 2021 (86 FR 67943) requesting public comments; no comments were received.

Abstract: The FERC Form 561 responds to the Federal Power Act (FPA) requirements for annual reporting of similar types of positions which public utility officers and directors hold with financial institutions, insurance companies, utility equipment and fuel providers, and with any of an electric utility's 20 largest purchasers of electric energy (i.e., the 20 entities with high expenditures of electricity). The FPA specifically defines most of the information elements in the Form 561 including the information that must be filed, the required filers, the directive to make the information available to the public, and the filing deadline.

The Commission uses the information required by 18 CFR 131.31 and collected by the Form 561 to implement the FPA requirement that those who are authorized to hold interlocked directorates annually disclose all the interlocked positions held within the prior year. The Form 561 data identifies persons holding interlocking positions between public utilities and other entities, allows the Commission to review these interlocking positions, and allows identification of possible conflicts of interest.

Type of Respondents: Each officer or director of a public utility also holding the position of officer, director, partner, appointee, or representative of any other entity listed in section 305(c)(2) of the FPA (including but not limited to organizations primarily engaged in the business of providing financial services or credit, insurance companies, security underwriters, electrical equipment suppliers, fuel provider, and any entity which is controlled by one or more of these entities).

Estimate of Annual Burden: The Commission estimates the total annual burden and cost ¹⁵ for this information collection as follows:

¹⁵ Commission staff estimates that the industry's skill set and cost (for wages and benefits) for FERC-561 are approximately the same as the Commission's average cost. The FERC 2021 average salary plus benefits for one FERC full-time equivalent (FTE) is $180,703/year (or $87.00/hour).

FERC Form 561—Annual Report of Interlocking Directorates
Number of respondents | Annual number of responses per respondent | Total number of responses | Average burden and cost per response | Total annual burden hours and total annual cost | Cost per respondent ($)
(1) | (2) | (1) * (2) = (3) | (4) | (3) * (4) = (5) | (5) ÷ (1)
2,700 | 1 | 2,700 | 0.25 hrs.; $21.75 | 675 hrs.; $58,725 | $21.75

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: February 4, 2022.
Kimberly D. Bose,
Secretary.

[FR Doc. 2022-02834 Filed 2-9-22; 8:45 am]

BILLING CODE 6717-01-P